DEPARTMENT OF HEALTH AND HUMAN SERVICES

Centers for Disease Control and Prevention

Advisory Committee on Childhood Lead Poisoning Prevention (ACCLPP): Meeting

In accordance with section 10(a)(2) of the Federal Advisory Committee Act (Pub. L. 92-463), the National Center for Environmental Health (NCEH) of the Centers for Disease Control and Prevention (CDC) announces the following committee meeting.

Name: Advisory Committee on Childhood Lead Poisoning Prevention.

Times and Dates: 8:30 a.m.-5:45 p.m., October 25, 2005. 8:30 a.m.-12:45 p.m., October 26, 2005.

Place: The Hubert Humphrey Federal Building, 200 Independence Avenue, SW., Washington, DC 20201. Telephone: (202) 619-0100.

Status: Open to the public, limited only by the space available. Non-federal attendees must call Crystal Gresham prior to October 24, 2005, in order to be received as a visitor at the Humphrey building on the day of the meeting. The meeting room accommodates approximately 60 people.

Purpose: The Committee provides advice and guidance to the Secretary; the Assistant Secretary for Health; and the Director, CDC, regarding new scientific knowledge and technological developments and their practical implications for childhood lead poisoning prevention efforts. The Committee also reviews and reports regularly on childhood lead poisoning prevention practices and recommend improvements in national childhood lead poisoning prevention efforts.

Matters To Be Discussed: Agenda items includes: Primary Prevention Workgroup update; Forum on strategies for implementation of housing-based Primary Prevention of Lead Poisoning-federal agency perspective; Forum-local agencies and non-governmental organization perspective; Washington, DC Childhood Lead Poisoning Prevention Program; Update on the Centers for Medicare and Medicaid Services and CDC Policy on Targeted Screening of Medicaid Children; update on adverse health effects of blood lead levels <10 mg/dl—follow-up; and update on clinical papers.

Agenda items are subject to change as priorities dictate.

Opportunities will be provided during the meeting for oral comments. Depending on the time available and the number of requests, it may be necessary to limit the time of each presenter.

Contact Person for More Information: Crystal M. Gresham, Management and Program Analyst, Lead Poisoning Prevention Branch, Division of Emergency and Environmental Health Services, NCEH, CDC, 4770 Buford Hwy, NE., M/S F-40, Atlanta, Georgia 30341. Telephone: (770) 488-7490, fax: (770) 488-3635.

The Director, Management Analysis and Services Office, has been delegated the authority to sign Federal Register notices pertaining to announcements of meetings and other committee management activities for both CDC and the Agency for Toxic Substances and Disease Registry.

Dated: September 12, 2005.
Alvin Hall,
Director, Management Analysis and Services Office, Centers for Disease Control and Prevention.

[FR Doc. 05-18690 Filed 9-19-05; 8:45 am]

BILLING CODE 4163-18-P